DEPARTMENT OF TRANSPORTATION

Federal Aviation Administration

14 CFR Part 39

[Docket No. FAA-2017-1081; Product Identifier 2017-SW-090-AD; Amendment 39-19510; AD 2018-24-06]

RIN 2120-AA64

Airworthiness Directives; Leonardo S.p.A. (Type Certificate Previously Held by Finmeccanica S.p.A. and AgustaWestland S.p.A.) Helicopters

AGENCY: Federal Aviation Administration (FAA), DOT.

ACTION: Final rule.

SUMMARY: We are adopting a new airworthiness directive (AD) for Leonardo S.p.A. (Leonardo) Model AW189 helicopters. This AD requires replacing the tail plane lower fitting with an improved tail plane lower fitting. This AD was prompted by reports of cracks on the tail plane fittings of Model AW189 helicopters. The actions of this AD are intended to correct an unsafe condition on these products.

DATES: This AD is effective January 4, 2019.

ADDRESSES: For service information identified in this final rule, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy., Room 6N-321, Fort Worth, TX 76177.

Examining the AD Docket

You may examine the AD docket on the internet at http://www.regulations.gov by searching for and locating Docket No. FAA-2017-1081; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Kristi Bradley, Aerospace Engineer, Safety Management Section, Rotorcraft Standards Branch, FAA, 10101 Hillwood Pkwy., Fort Worth, TX 76177; telephone 817-222-5110; email kristin.bradley@faa.gov.

SUPPLEMENTARY INFORMATION:

Discussion

On May 23, 2018, at 83 FR 23827, the Federal Register published our notice of proposed rulemaking (NPRM), which proposed to amend 14 CFR part 39 by adding an AD that would apply to AgustaWestland S.p.A. (now Leonardo) Model AW189 helicopters with a tail plane lower fitting part number (P/N) 8G5350A07051 installed. The NPRM proposed to require replacing the tail plane lower fitting with an improved tail plane lower fitting. The proposed requirements were intended to prevent a crack on a tail plane fitting, which could result in failure of the tail plane fitting and loss of helicopter control.

The NPRM was prompted by AD No. 2016-0161, dated August 8, 2016 (EASA AD 2016-0161), issued by EASA, which is the Technical Agent for the Member States of the European Union, to correct an unsafe condition for Leonardo Model AW189 helicopters. EASA advises that some cracks have been reported in-service on the tail plane fitting of AW189 helicopters following an onset of abnormal play. According to EASA, this condition, if not detected and corrected, could jeopardize structural integrity of the helicopter. EASA further advises that Leonardo developed a tail plane lower fitting with an improved design (P/N 8G0000P00511). Accordingly, EASA AD 2016-0161 requires repetitive inspections of the tail plane lower fitting assembly until the improved tail plane lower fitting is installed.

When the NPRM was issued, the FAA was in the process of updating AgustaWestland's name changes to Finmeccanica S.p.A. and then to Leonardo Helicopters on its FAA type certificate; therefore the NPRM specified AgustaWestland as the type certificate holder. Because this name change is now effective, this AD applies to Leonardo helicopters.

Comments

We gave the public the opportunity to participate in developing this AD, but we received no comments on the NPRM.

FAA's Determination

These helicopters have been approved by the aviation authority of Italy and are approved for operation in the United States. Pursuant to our bilateral agreement with Italy, EASA, its technical representative, has notified us of the unsafe condition described in the EASA AD. We are issuing this AD because we evaluated all information provided by Italy and determined the unsafe condition exists and is likely to exist or develop on other helicopters of these same type designs and that air safety and the public interest require adopting the AD requirements as proposed except for the name change from AgustaWestland to Leonardo. We have also updated the estimated costs to reflect that this AD affects 4 helicopters of U.S. Registry rather than 2 helicopters. These changes are consistent with the intent of the proposals in the NPRM (83 FR 23827, May 23, 2018) and will not increase the economic burden on any operator nor increase the scope of this AD.

Differences Between This AD and the EASA AD

The EASA AD requires inspecting the tail plane lower fitting for play within 50 flight hours and thereafter at intervals not to exceed 25 flight hours. If a crack or other damage exists, the EASA AD requires the improved tail plane lower fitting be installed within 10 flight hours. If no crack exists, the EASA AD requires that the improved tail plane lower fitting be installed within 200 flight hours or 2 months, whichever occurs first. This AD does not require inspections and requires installing the improved tail plane lower fitting within 50 hours time-in-service.

Related Service Information

We reviewed Leonardo Helicopters Bollettino Tecnico (BT) No. 189-038, Revision B, dated October 13, 2016, which specifies repetitively inspecting the tail plane assembly for a crack.

We also reviewed BT No. 189-070, Revision A, dated October 13, 2016, which provides instructions for replacing the tail plane lower fitting with the improved tail plane lower fitting retromodification P/N 8G0000P00511.

Costs of Compliance

We estimate that this AD affects 4 helicopters of U.S. Registry and that labor costs average $85 a work-hour. Based on these estimates, we expect that replacing the tail plane lower fitting with an improved tail plane lower fitting requires 64 work-hours and parts cost $15,424 for a total cost of $20,864 per helicopter and $83,456 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-24-06 Leonardo S.p.A. (Type Certificate previously held by Finmeccanica S.p.A. and AgustaWestland S.p.A.): Amendment 39-19510; Docket No. FAA-2017-1081; Product Identifier 2017-SW-090-AD.

(a) Applicability

This AD applies to Leonardo S.p.A. (Type Certificate previously held by Finmeccanica S.p.A. and AgustaWestland S.p.A.) Model AW189 helicopters, certificated in any category, with a tail plane lower fitting part number (P/N) 8G5350A07051 installed.

(b) Unsafe Condition

This AD defines the unsafe condition as a crack on a tail plane fitting, which could result in failure of the tail plane fitting and loss of helicopter control.

(c) Effective Date

This AD becomes effective January 4, 2019.

(d) Compliance

You are responsible for performing each action required by this AD within the specified compliance time unless it has already been accomplished prior to that time.

(e) Required Actions

Within 50 hours time-in-service, install tail plane retromodification kit P/N 8G0000P00511.

(f) Alternative Methods of Compliance (AMOCs)

(1) The Manager, Safety Management Section, Rotorcraft Standards Branch, FAA, may approve AMOCs for this AD. Send your proposal to: Kristi Bradley, Aerospace Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Leonardo Helicopters Bollettino Tecnico (BT) No. 189-038, Revision B, and BT No. 189-070, Revision A, both dated October 13, 2016, which are not incorporated by reference, contain additional information about the subject of this AD. For service information identified in this AD, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy, Room 6N-321, Fort Worth, TX 76177.

(2) The subject of this AD is addressed in European Aviation Safety Agency (EASA) AD No. 2016-0161, dated August 8, 2016. You may view the EASA AD on the internet at http://www.regulations.gov in Docket No. FAA-2017-1081.

(h) Subject

Joint Aircraft Service Component (JASC) Code: 5510, Horizontal Stabilizer Structure.

Issued in Fort Worth, Texas, on November 21, 2018.
Lance T. Gant,
Director, Compliance & Airworthiness Division, Aircraft Certification Service.

[FR Doc. 2018-26071 Filed 11-29-18; 8:45 am]

BILLING CODE 4910-13-P